DEPARTMENT OF COMMERCE

International Trade Administration

[A-201-822]

Stainless Steel Sheet and Strip in Coils from Mexico; Notice of Amended Final Results of Antidumping Duty Administrative Review

AGENCY: Import Administration, International Trade Administration, Department of Commerce.

EFFECTIVE DATE: April 5, 2010.

FOR FURTHER INFORMATION CONTACT: Patrick Edwards, Brian Davis, or Angelica Mendoza, AD/CVD Operations, Office 7, Import Administration, International Trade Administration, U.S. Department of Commerce, 14th Street and Constitution Avenue, NW, Washington, DC 20230; telephone: (202) 482-8029, (202) 482-7924, and (202) 482-3019, respectively.

SUPPLEMENTARY INFORMATION:

Amendment to the Final Results

In accordance with sections 751(a) and 777(i)(1) of the Tariff Act of 1930, as amended, (the Act), on February 3, 2010, the Department issued its final results in the administrative review of the antidumping duty order on stainless steel sheet and strip in coils (S4 in coils) from Mexico, covering the period July 1, 2007, to June 30, 2008. The final results were subsequently released to all parties in the proceeding, and published in the Federal Register on February 10, 2010. See Stainless Steel Sheet and Strip in Coils from Mexico; Final Results of Antidumping Duty Administrative Review, 75 FR 6627 (February 10, 2010) (S4 from Mexico 2007-2008 Final Results). On February 24, 2010, and pursuant to 19 CFR 351.224(c)(2), we received a timely-filed allegation from the respondents in this administrative review, ThyssenKrupp Mexinox S.A. de C.V. (Mexinox SA) and Mexinox USA, Inc. (Mexinox USA) (collectively referred to as Mexinox), that the Department made ministerial errors with respect to the calculation of Mexinox's importer-specific assessment rate. See Letter from Mexinox to the Department of Commerce, regarding “Ministerial Error Comments,” dated February 24, 2010 (Mexinox Ministerial Letter). On March 1, 2010, we received comments from Allegheny Ludlum Corporation, AK Steel Corporation, and North American Stainless (collectively referred to as petitioners) regarding the ministerial errors alleged by Mexinox. See Letter from petitioners to the Department of Commerce, regarding “Response to Mexinox's Ministerial Error Allegations,” dated March 1, 2010 (Petitioners' Response Letter). For a discussion of the Department's analysis of the allegations in the Mexinox Ministerial Letter and rebuttal comments in the Petitioners' Response Letter, see Memorandum from Patrick Edwards and Brian Davis, Case Analysts, through Angelica Mendoza, Program Manager, to Richard Weible, Office Director, entitled, “Ministerial Errors Allegation in the Final Results of the Antidumping Duty Administrative Review of Stainless Steel Sheet and Strip in Coils from Mexico: ThyssenKrupp Mexinox S.A. de C.V.,” dated March 23, 2010 (Ministerial Error Allegation Memo).

A ministerial error, as defined at section 751(h) of the Act, includes “errors in addition, subtraction, or other arithmetic function, clerical errors resulting from inaccurate copying, duplication, or the like, and any other type of unintentional error which {the Department} considers ministerial.” See also 19 CFR 351.224(f). In its Ministerial Letter, Mexinox alleges that the Department made two ministerial errors in calculating Mexinox's importer-specific assessment rate for the final results of this administrative review. First, Mexinox alleges that the Department made a ministerial error by calculating a per-unit, rather than ad valorem, assessment rate. Additionally, Mexinox argues that the Department neglected to account for the entered value for material sold outside the United States in its assessment rate calculation. Petitioners contend that the Department's calculation of a per-unit assessment rate is not a clerical error and argue that the Department should not make the revision suggested by Mexinox because the admissions and statements in Mexinox's Ministerial Letter confirm that the Department's calculation of a per-unit assessment rate was not a ministerial error. Petitioner also argues that there is no basis for Mexinox's claim that the per-unit assessment is inherently unreasonable and that the Department normally calculates ad valorem rates where a respondent has reported an entered value for all of its sales. Petitioners did not comment on Mexinox's allegation that the Department neglected to account for the entered value for material sold outside the United States in its assessment duty rate calculation.

After analyzing Mexinox's ministerial error comments and petitioners' rebuttal comments, we have determined, in accordance with 19 CFR 351.224(e), that we made a ministerial error with respect to our final importer-specific assessment rate calculation for Mexinox USA, where the Department inadvertently neglected to account for the entered value for material sold outside the United States. See Mexinox's Ministerial Letter; see also Memorandum to the File, “Antidumping Duty Administrative Review of Stainless Steel Sheet and Strip in Coils from Mexico “ Amended Final Results Analysis Memorandum for ThyssenKrupp Mexinox S.A. de C.V.,” dated March 29, 2010 (2007-2008 S4 from Mexico Amended Final Results Analysis Memorandum), at pages 2 through 3, for a further discussion. Therefore, the Department has corrected both the U.S. Margin Program and the Macros Program and adjusted the assessment rate for the entered value of merchandise sold outside the United States, as originally intended by the Department.

With respect to Mexinox's allegation that the Department made a ministerial error by calculating a per-unit, rather than an ad valorem, assessment rate, we find that the alleged error does not meet the definition of a ministerial error in this case, pursuant to 19 CFR 351.224(f). Rather, Mexinox's disagreement over the calculated assessment rate is methodological in nature. The Department followed its normal practice of calculating a per-unit, rather than an ad valorem, assessment rate as it does in cases where a respondent failed to provide the Department with complete and accurate information regarding entered values. See Memorandum to the File, “Analysis of Data Submitted by ThyssenKrupp Mexinox S.A. de C.V. for the Final Results of the Antidumping Duty Administrative Review of Stainless Steel Sheet and Strip in Coils from Mexico (A-201-822),” dated February 3, 2010 (2007-2008 S4 from Mexico Final Results Analysis Memorandum), at pages 7 through 9; see also the Department's Ministerial Error Allegation Memo at pages 2 through 8 for a further discussion. As a result, we have not changed our assessment rate calculation based on this allegation.

Therefore, in accordance with 19 CFR 351.224(e), we are amending the final results in this antidumping duty administrative review of S4 in coils from Mexico. After correcting the ministerial error with respect to entered value for material sold outside the United States, the amended final weighted-average dumping margin remains unchanged:

Manufacturer/Exporter | Final Results Weighted-Average Margin Percentage | Amended Final Weighted-Average Margin Percentage
ThyssenKrupp Mexinox S.A. de C.V. | 4.48 percent | 4.48 percent¹
¹ We note that correcting for this ministerial error did not change Mexinox's weighted-average margin calculated in the S4 from Mexico 2007-2008 Final Results.

Assessment Rates

The Department will determine, and U.S. Customs and Border Protection (CBP) shall assess, antidumping duties on all appropriate entries, pursuant to section 751(a)(1) of the Act, and 19 CFR 351.212(b). Where entered values are missing for some sales and reported for others, the Department calculates a per-unit assessment rate on an importer-specific basis. The Department calculated an importer-specific per-unit duty assessment rate by aggregating the total amount of antidumping duties calculated for the examined sales and dividing this amount by the total quantity of those sales.² Where the duty assessment rates are above de minimis, we will instruct CBP to assess duties on all entries of subject merchandise by that importer in accordance with the requirements set forth in 19 CFR 351.106(c)(2).

² We note that 19 CFR 351.212(b)(1) states that “the Secretary normally will calculate an assessment rate for each importer of subject merchandise covered by the review.” It is Department practice to calculate multiple importer-specific assessment rates in cases where respondents have reported multiple importers and a single importer-specific rate where respondents reported only one importer. See, e.g., Stainless Steel Sheet and Strip in Coils from Japan: Final Results of Antidumping Duty Administrative Review, 75 FR 6631 (February 10, 2010) and Certain Frozen Warmwater Shrimp from Thailand: Final Results and Final Partial Rescission of Antidumping Duty Administrative Review, 72 FR 52065 (September 12, 2007) (the Department calculated an assessment rate for each importer of subject merchandise covered by the review); Polyethylene Retail Carrier Bags from Thailand: Final Results of Antidumping Duty Administrative Review, 74 FR 65751 (December 11, 2009) and Stainless Steel Wire Rods from India: Final Results of Antidumping Duty Administrative Review and Notice of Rescission of Antidumping Duty Administrative Review in Part, 72 FR 68123 (December 4, 2007) (the Department calculated a single per unit assessment rate for a single importer). In the above mentioned cases that involved multiple importers, we have calculated an ad valorem assessment rate for one importer while calculating a per-unit assessment rate for another importer. However, in the instant case, Mexinox has not reported multiple importers and, therefore, the Department has calculated one importer-specific assessment rate.

Upon issuance of the amended final results of this review, for any importer-specific assessment rates calculated in the amended final results that are above de minimis (i.e., at or above 0.50 percent), we will issue appraisement instructions directly to CBP to assess antidumping duties on appropriate entries by applying the per-unit dollar amount against each unit of merchandise on each of that importer's entries during the review period. See 19 CFR 351.212(b)(1). Pursuant to 19 CFR 356.8(a), the Department intends to issue assessment instructions to CBP 41 days after the date of publication of these amended final results of review.

The Department clarified its “automatic assessment” regulation on May 6, 2003. See Antidumping and Countervailing Duty Proceedings: Assessment of Antidumping Duties, 68 FR 23954 (May 6, 2003). This clarification will apply to entries of subject merchandise during the POR produced by Mexinox for which Mexinox did not know the merchandise was destined for the United States. In such instances, we will instruct CBP to liquidate unreviewed entries at the 30.69 percent all-others rate if there is no company-specific rate for an intermediary involved in the transaction.

Cash Deposit Requirements

The following deposit requirements continue to be effective on any entries made on or after February 10, 2010, the date of publication of the S4 from Mexico 2007-2008 Final Results, for all shipments of subject merchandise entered, or withdrawn from warehouse, for consumption as provided by section 751(a)(2)(C) of the Act: (1) for Mexinox, which has a separate rate, the cash deposit rate will be the company-specific rate shown above; (2) for previously reviewed or investigated companies not listed above that have a separate rate, the cash deposit rate will continue to be the company-specific rate published for the most recent period; (3) the cash deposit rate for all other Mexican exporters will be 30.69 percent, the current Mexico-wide rate; and (4) the cash deposit rate for all non-Mexican exporters will be the rate applicable to the Mexican exporter that supplied that exporter. These cash deposit requirements continue to remain in effect until further notice.

Notifications of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these amended final results of review and notice in accordance with sections 751(a) and 777(i) of the Act.

Dated: March 29, 2010.
Ronald K. Lorentzen,
Deputy Assistant Secretary for Import Administration.

[FR Doc. 2010-7676 Filed 4-2-10; 8:45 am]

BILLING CODE 3510-DS-S